DEPARTMENT OF HEALTH AND HUMAN SERVICES

National Institutes of Health

National Institute of Neurological Disorders and Stroke; Amended Notice of Meetings

Notice is hereby given of a change in the meeting of the Neurological Sciences Training 3 Study Section, NST-3, June 06, 2024, 08:00 a.m. to June 07, 2024, 05:00 p.m., National Institutes of Health, Neuroscience Center, 6001 Executive Boulevard, Rockville, MD 20852, and a change in the meetings of the National Institute of Neurological Disorders and Stroke Special Emphasis Panels: NSD-D Member Conflict Review Meeting, May 31, 2024, 02:00 p.m. to 05:00 p.m.; HEAL Initiative: Team Based Science, June 7, 2024, 09:00 a.m. to 06:00 p.m.; and NIH Blueprint and BRAIN Initiative ENDURE Program, July 31, 2024, 10:00 a.m. to 02:00 p.m., National Institutes of Health, Neuroscience Center, 6001 Executive Boulevard, Rockville, MD 20852, which were published in the Federal Register on May 09, 2024, FR Doc. 2024-10092, 89 FR 39629.

This notice is being amended to change the meeting location of the meeting of the Neurological Sciences Training 3 Study Section, NST-3 to the Holiday Inn & Suites Anaheim, 1240 S Walnut St., Anaheim, CA 92802. This notice is also being amended to change the meeting formats of the three National Institute of Neurological Disorders and Stroke Special Emphasis Panel meetings, NSD-D Member Conflict Review Meeting, HEAL Initiative: Team Based Science, and NIH Blueprint and BRAIN Initiative ENDURE Program, from in-person to virtual. The dates and times of these meetings will remain the same. The meetings are closed to the public.

Dated: May 15, 2024.
Lauren A. Fleck,
Program Analyst, Office of Federal Advisory Committee Policy.

[FR Doc. 2024-11165 Filed 5-21-24; 8:45 am]

BILLING CODE 4140-01-P